DEPARTMENT OF TRANSPORTATION

Federal Aviation Administration

Finding of No Significant Impact

AGENCY: Federal Aviation Administration (FAA), Department of Transportation (DOT).

ACTION: Environmental Finding Document: Finding of No Significant Impact; Notice.

SUMMARY: On May 23, 2005, the FAA Office of Commercial Space Transportation (AST) received an application for a launch license from Space Exploration Technologies, Inc. (SpaceX) to conduct launches of its Falcon 1 launch vehicle from Omelek Island, U.S. Army Kwajalein Atoll/Ronald Reagan Ballistic Missile Test Site (USAKA/RTS). The FAA participated as a cooperating agency with the U.S. Army Space and Missile Defense Command (USASMDC) in preparation of the Environmental Assessment (EA) for the Proof-of-Principle Space Launches from Omelek Island (February 2005). The EA analyzed the environmental consequences of conducting two proof-of-principle launches of the Falcon 1 Launch Vehicle from Omelek Island, USAKA/RTS. From its independent review and consideration, the FAA has determined that the FAA's proposed action is substantially the same as the actions already analyzed in the USASMDC EA and that FAA's comments and suggestions have been satisfied (see 1506.3(c) and FAA Order 1050.1E, 518h). The FAA formally adopts the EA and hereby incorporates the analysis to support its decision on this license application.

After reviewing and analyzing currently available data and information on existing conditions, project impacts, and measures to mitigate those impacts, the FAA has determined that licensing the proposed launch activities is not a Federal action that would significantly affect the quality of the human environment within the meaning of the National Environmental Policy Act (NEPA). Therefore, the preparation of an Environmental Impact Statement (EIS) is not required and the FAA is issuing a Finding of No Significant Impact (FONSI). The FAA made this determination in accordance with all applicable environmental laws.

FOR A COPY OF THE ENVIRONMENTAL ASSESSMENT OR THE FONSI CONTACT: A copy of the EA is available at: http://www.smdcen.us/pubdocs/files/spacex_ final_ea_ signed_fnsi_ 13dec04.pdf. Questions or comments should be directed to Ms. Stacey Zee; FAA Environmental Specialist; Federal Aviation Administration; 800 Independence Ave., SW.; AST-100, Suite 331; Washington, DC 20591; (202) 267-9305.

Background

Launches of launch vehicles, such as SpaceX's proposed launches of the Falcon 1 launch vehicle from Omelek Island, must be licensed by the FAA pursuant to 49 U.S.C. Sections 70101-70121, the Commercial Space Launch Act. Licensing the launch of a launch vehicle is a Federal action requiring environmental analysis by the FAA in accordance with NEPA, 42 U.S.C. Sec. 4321 et seq. Upon receipt of a complete license application, the FAA must decide whether to issue a launch license to SpaceX for launching the Falcon 1 launch vehicle from Omelek Island, USAKA/RTS. An environmental determination is required for the evaluation of a license application. The FAA is using the analyses in the USASMDC EA as the basis for the environmental determination of the impacts to support licensing the Falcon launch vehicle from Omelek Island.

Proposed Action

SpaceX is proposing to launch the Falcon 1 launch vehicle from Omelek Island, USAKA/RTS. The Falcon is a small, unmanned, two-stage launch vehicle designed to put small payloads into orbit. It uses liquid oxygen (LOX) and kerosene as propellants. The first stage, which is reusable, uses a parachute and would be recovered. The second stage is not reusable and is not intended to be recovered.

The issuance of a FONSI does not guarantee that a license will be issued by the FAA for the launch of the Falcon 1 launch vehicle. However, if a license is issued, SpaceX would be authorized to launch the Falcon 1 launch vehicle carrying a Razaksat Satellite built by ATSB. The Razaksat Satellite (formerly known as MACSAT) is an Earth observation spacecraft containing a medium aperture camera. It would be launched on a 90-degree azimuth to an orbit of 685 kilometers (426 miles).

The USASMDC EA considered four alternative site locations for the facilities to be constructed at Omelek Island. These alternatives are no longer under consideration because a final launch site has been selected. Under the No Action Alternative, the Falcon 1 launch vehicle would not be launched from Omelek Island.

Environmental Impacts

The following presents a brief summary of the environmental impacts considered in the USASMDC EA. The USASMDC EA is incorporated by reference in this FONSI and the FAA's FONSI is based upon the impacts discussed in that EA. Land Use, socioeconomics, environmental justice, and aesthetics were not discussed in the USASMDC EA. Based on the original analysis, it was determined that there would be no significant impacts to land use or aesthetics because Omelek Island would remain under U.S. Army management and would continue to be used for missile research. There would be no impacts to socioeconomics or environmental justice, because except for base personnel, the island is uninhabited. The project would only require a few existing base personnel and 20 SpaceX personnel and would not cause any impact to off base or low-income populations.

Air Quality: Falcon launches would have only a localized, minimal impact on air quality. Long-term effects are not expected because the launches would be infrequent and the resulting emissions would be rapidly dispersed and diluted by trade winds. Regional air quality and ambient air quality standards would not be impacted by launches of the Falcon 1 vehicle.

Airspace: USAKA/RTS is located under international airspace and therefore, has no formal airspace restrictions governing it. However, the Omelek launch site is approximately 35 kilometers (22 miles) north of Bucholz Army Airfield and Falcon launches could potentially impact flight patterns for military aircraft in the area. SpaceX would coordinate Falcon 1 launches with the USAKA/RTS Commander, which would include scheduling launches to avoid airspace conflicts.

Biological Resources: Disturbances to vegetation and wildlife during Falcon launches would be minimal and brief. Based on existing analyses of prior and current launches within the region, launch disturbances on migratory birds, threatened or endangered species and other wildlife would be minimal. There is a very small possibility that debris or booster drops could impact migratory whales or sea turtles; however, the majority of the potential impact area is open-ocean, where the probability of impacting a species would be very low.

Potential habitat for sea turtles on Omelek includes sandy beaches along the southern and northern tips of the island and the area of the lagoon shoreline from the northern tip of the island south to the north jetty. Personnel would be instructed to avoid all contact with sea turtles or turtle nests that might occur within the area. On the day of the launch or the day before, SpaceX or USAKA/RTS personnel would fence the beach 100 meters (328 feet) on either side of the launch site just above the wave surge area at a sufficient height to prevent sea turtles from hauling out at this area and thus would prevent a take during a nominal launch. No site preparation activities would take place offshore, and thus marine mammals would not be affected.

No impacts are expected to vegetation since sufficient open space should exist around the launch site to absorb ground effects without directly impacting surrounding vegetation.

Cultural Resources: Personnel involved in launch and other operational activities would follow USAKA Environmental Standards (UES) requirements in handling or avoiding any cultural resources uncovered during operational or monitoring activities. This would include ongoing consultation with the Republic of the Marshall Islands Historic Preservation Officer on any cultural resource issues encountered during operations. In addition, no historic World War II or significant Cold War features have been identified on Omelek. Therefore, no significant impacts to cultural resources are anticipated.

Geology and Soils: Falcon 1 launch vehicle emissions would consist mainly of carbon monoxide, carbon dioxide, hydrogen and water and would not result in any impacts to geology or soils. There would be a slight risk of soil contamination from accidental spills of propellants or premature flight termination; however, this risk would be minimized because emergency response personnel would comply with the Hazardous Waste Management Plan and Hazardous Materials Contingency Plan prepared by SpaceX and the Kwajalein Environmental Emergency Plan.

Hazardous Materials and Waste: Materials proposed for use as a result of the Proposed Action are similar to hazardous materials already in use for other operations at USAKA/RTS. New hazardous materials would represent only a small increase in the total amount of materials handled and could easily be accommodated by existing hazardous materials management systems. Hazardous waste management at USAKA/RTS would continue to be performed in accordance with the UES, which requires shipment of hazardous waste back to the Continental United States for treatment and/or disposal; therefore, there would not be a significant impact.

Health and Safety: Launches of the Falcon 1 vehicle from Omelek Island would comply with all UES and USAKA/RTS Range Safety Requirements. This includes performing flight safety studies, coordinating launches with the Range Safety Officer and evacuating the uninvolved public from the launch hazard area prior to any launch. In addition, as part of their launch operator license application, SpaceX has developed a number of safety procedures for Falcon 1 launches.

Marshallese individuals who have permission to stay temporarily on Omelek while fishing from adjacent islands would be asked by the USAKA/RTS Commander to evacuate the launch hazard area once the Falcon 1 rocket has been brought to the island. The Marshallese could resume their habitation once launch activities have been accomplished and the associated facilities secured. Access to Omelek would be limited to all but mission essential persons and personnel would be evacuated from the island prior to launch. There is no expected significant impact to health and safety.

Infrastructure: The USASMDC EA found that there would be no impacts to infrastructure from constructing and operating the Falcon 1 launch program on Omelek Island. However, for this document, the FAA is analyzing only the licensing of Falcon launches and no construction or upgrades to roads or utilities would be required under the Proposed Action. Therefore, there would be no impacts to infrastructure from Falcon 1 launch operations at Omelek Island.

Noise: Falcon 1 pre-launch and launch operations on Omelek Island would result in only temporary noise impacts. The island has been developed solely as a launch support facility and there are no inhabited islands within 21 kilometers (13 miles) of the site. SpaceX personnel would be evacuated from the island prior to launch and would not be impacted by the launch. The Falcon 1 launch vehicle would reach supersonic speeds at an altitude of approximately eight kilometers (five miles) over the open ocean and the resultant sonic boom would not adversely impact any surrounding USAKA islands. Wildlife near the launch site would be temporarily impacted by noise generated during launch operations; however, the level of disturbance would be minimal due to the temporary and infrequent nature of launch operations.

Water Resources: There is the potential for carbonic acid (a mild acid similar to that in a carbonated beverage) to be produced during launch from the reaction of carbon dioxide in the exhaust plume and water. This carbonic acid would be expected to rapidly evaporate and would have a similar pH to that of rainwater; therefore, no impacts to water resources would be expected to occur from launch emissions.

There is the potential for an accidental propellant spill or premature flight termination to result in released propellant contaminating water resources. This risk, however, would be minimized through compliance with the Hazardous Materials Contingency Plan and Hazardous Waste Management Plan prepared by SpaceX and the Kwajalein Environmental Management Plan.

Cumulative Impacts: The proposed action would not occur at the same time as other programs such as Ground-Based Midcourse Defense or Minuteman III planned for the region. Launches are short-term, discrete events, thus allowing time between launches for emission products to be dispersed and minimizing the potential for impacts to airspace users, biological resources, and public health and safety. No significant cumulative impacts are expected to air quality, airspace, biological resources, cultural resources, geology and soils, hazardous materials and waste, health and safety, infrastructure, noise, and water resources.

Determination: An analysis of the Proposed Action has concluded that there are no significant short-term or long-term effects to the environment or surrounding populations. After careful and thorough consideration of the facts herein, the undersigned finds that the proposed Federal action is consistent with existing national environmental policies and objectives set forth in Section 101(a) of NEPA and that it will not significantly affect the quality of the human environment or otherwise include any condition requiring consultation pursuant to Section 102(2)(c) of NEPA. Therefore, an EIS for the proposed action is not required.

Issued on October 25, 2005 in Washington, DC.
Patricia Grace Smith,
Associate Administrator for Commercial Space Transportation.

[FR Doc. 05-21746 Filed 10-31-05; 8:45 am]

BILLING CODE 4910-13-P